OFFICE OF THE UNITED STATES TRADE REPRESENTATIVE

[Docket Number USTR-2023-0005]

Extension of the Comment Period: Request for Comments Regarding the Work of the North American Competitiveness Committee

AGENCY: Office of the United States Trade Representative (USTR).

ACTION: Extension of the comment period.

SUMMARY: Since entry into force of the United States-Mexico-Canada Agreement (USMCA), the United States, Canada, and Mexico (the Parties) have focused the work of the North American Competitiveness Committee (Committee) on expanding trilateral cooperation on North American workforce development issues and establishing mechanisms for cooperation during emergency situations that affect North American trade flows, including by establishing a joint understanding of critical infrastructure priorities in North America. USTR is seeking public comments and recommendations for these and potential additional workstreams for the Committee relevant to enhancing North American competitiveness. USTR is extending the deadline to submit comments by 30 days, until August 17, 2023.

DATES: The deadline for the submission of written comments is August 17, 2023.

ADDRESSES: You should submit written comments through the Federal eRulemaking Portal: https://www.regulations.gov (Regulations.gov). Follow the instructions for submissions in parts IV and V below.

FOR FURTHER INFORMATION CONTACT: For procedural questions concerning written comments, please contact Randall Oliver, Director for Canada, Office of Western Hemisphere Affairs, at Randall.T.Oliver@ustr.eop.gov or (202) 395-9449 in advance of the deadline and before transmitting a comment.

SUPPLEMENTARY INFORMATION:

I. Comment Extension

On June 16, 2023 (88 FR 39502), USTR published a notice with a request for comments concerning additional workstreams for the Committee relevant to enhancing North American competitiveness. This notice extends the deadline for submission of comments until August 17, 2023. For convenience, USTR is repeating the background and information on solicitation of comments below.

II. Background

The purpose of the Committee, which was established under Chapter 26 of the USMCA, is to:

• develop and implement cooperative activities in support of a strong economic environment that incentivizes production in North America;

• facilitate regional trade and investment;

• enhance a predictable and transparent regulatory environment;

• encourage the swift movement of goods and the provision of services throughout the region; and

• respond to market developments and emerging technologies.

The Parties agreed that the Committee should not detract from or unnecessarily duplicate work that is taking place under other USMCA committees or in other venues such as bilateral cooperation mechanisms, including the U.S.-Mexico High-Level Economic Dialogue and the Roadmap for a Renewed U.S.-Canada Partnership. The Parties also agreed that projects for the Committee must be based on targeted and specific proposals to maximize effectiveness and impact.

To coordinate U.S. government policy for the Committee, USTR has established a Trade Policy Staff Committee (TPSC) Subcommittee on North American Competitiveness (TPSC Subcommittee) comprised of officials from across the U.S. government.

III. Public Comments

USTR invites interested parties to submit comments to assist USTR and the TPSC Subcommittee in recommending additional workstreams for the Committee relevant to enhancing North American competitiveness. Comments should be responsive to the Committee activities described in the USMCA at Article 26.1, namely:

• effective approaches and information-sharing activities to support a competitive environment in North America that facilitates trade and investment between the Parties, and promotes economic integration and development within the free trade area;

• ways to further assist traders of a Party to identify and take advantage of trade opportunities under the USMCA;

• recommendations aimed at enhancing the participation of SMEs, and enterprises owned by under-represented groups including women, indigenous peoples, youth, and minorities;

• projects and policies to develop a modern physical and digital trade- and investment-related infrastructure, and improve the movement of goods and provision of services within the free trade area;

• action to combat market-distorting practices by non-Parties that are affecting the North American region; and

• cooperative activities for trade and investment between the Parties with respect to innovation and technology, including best practices in their application.

In addition, USTR invites interested parties to submit comments to assist USTR and the TPSC Subcommittee in the ongoing implementation of current work under the Committee related to North American workforce development and cooperation among the Parties during emergency situations that affect North American trade flows, including the establishment of a joint understanding of critical infrastructure priorities in North America described in Decision #5 of the Free Trade Commission of the USMCA.

Comments could address, among other topics:

• recommendations aimed at developing procedures for coordination and consultation in response to specific emergency situations;

• effective approaches and mechanisms to timely consult with industries and other non-governmental stakeholders, including workers, most directly impacted by the disruption of North American trade flows in an emergency situation;

• existing projects and policies to engage with state, local, tribal, or territorial governments to address disruptions to trade in emergency situations; and

• examples of activities related to re-establishing the flow of trade after emergency situations.

USTR requests small businesses (generally defined by the Small Business Administration as firms with fewer than 500 employees) or organizations representing small business members that submit comments to self-identify as such, so that we may be aware of issues of particular interest to small businesses.

IV. Procedures for Written Submissions

To be assured of consideration, submit your written comments by the August 17, 2023 11:59 p.m. EDT deadline. All submission must be in English. USTR strongly encourages submissions via Regulations.gov, using Docket Number USTR-2023-0005.

To make a submission via Regulations.gov, enter Docket Number USTR-2023-0005 in the `search for' field on the home page and click `search.' The site will provide a search results page listing all documents associated with this docket. Find a reference to this notice by selecting `notice' under `document type' in the `refine documents results' section on the left side of the screen and click on the link entitled `comment.'

Regulations.gov allows users to make submissions by filling in a `type comment' field or by attaching a document using the `upload file' field. USTR prefers that you provide submissions in an attached document and note `see attached' in the `comment' field on the online submission form. USTR prefers submissions in Microsoft Word (.doc) or Adobe Acrobat (.pdf). If you use an application other than those two, please indicate the name of the application in the `type comment' field.

You will receive a tracking number upon completion of the submission procedure at Regulations.gov. The tracking number is confirmation that Regulations.gov received your submission. Keep the confirmation for your records. USTR is not able to provide technical assistance for Regulations.gov.

For further information on using Regulations.gov, please consult the resources provided on the website by clicking on `How to Use Regulations.gov' on the bottom of the home page. USTR may not consider submissions that you do not make in accordance with these instructions.

If you are unable to provide submissions as requested, please contact Randall Oliver, Director for Canada, Office of Western Hemisphere Affairs, in advance of the deadline at Randall.T.Oliver@ustr.eop.gov or (202) 395-9449, to arrange for an alternative method of transmission. USTR will not accept hand-delivered submissions. General information concerning USTR is available at www.ustr.gov.

V. Business Confidential Information (BCI) Submissions

If you ask USTR to treat information you submit as BCI, you must certify that the information is business confidential and you would not customarily release it to the public. For any comments submitted electronically containing BCI, the file name of the business confidential version should begin with the characters `BCI.' You must clearly mark any page containing BCI with `BUSINESS CONFIDENTIAL' at the top of that page. Filers of submissions containing BCI also must submit a public version of their submission that will be placed in the docket for public inspection. The file name of the public version should begin with the character `P.'

VI. Public Viewing of Review Submissions

USTR will post written submissions in the docket for public inspection, except properly designated BCI. You can view submissions at Regulations.gov by entering Docket Number USTR-2023-0005 in the search field on the home page.

William Shpiece,
Chair of the Trade Policy Staff Committee, Office of the United States Trade Representative.

[FR Doc. 2023-15134 Filed 7-17-23; 8:45 am]

BILLING CODE 3390-F3-P